DEPARTMENT OF THE INTERIOR

Bureau of Reclamation

[RR03042000, 16XR0680A1, RX.18786000.1000000]

Agency Information Collection Activities Under OMB Review; Renewal of a Currently Approved Information Collection

AGENCY: Bureau of Reclamation, Interior.

ACTION: Notice.

SUMMARY: The Bureau of Reclamation has forwarded the following Information Collection Request to the Office of Management and Budget (OMB) for review and approval: Diversions, Return Flows, and Consumptive Use of Colorado River Water in the Lower Colorado River Basin (OMB Control Number 1006-0015).

DATES: OMB has up to 60 days to approve or disapprove this information collection request, but may respond after 30 days; therefore, public comments must be received on or before December 30, 2015.

ADDRESSES: Send written comments to the Desk Officer for the Department of the Interior at the Office of Management and Budget, Office of Information and Regulatory Affairs, via facsimile to (202) 395-5806, or email to oira_submission@omb.eop.gov. A copy of your comments should also be directed to Mr. Paul Matuska, Bureau of Reclamation, Boulder Canyon Operations Office, Water Accounting and Verification Group, LC-4200, P.O. Box 61470, Boulder City, NV 89006, or via email to pmatuska@usbr.gov. Please reference OMB Control No. 1006-0015 in your comments.

FOR FURTHER INFORMATION CONTACT: Paul Matuska at 702-293-8164. You may also view the information collection request at www.reginfo.gov.

SUPPLEMENTARY INFORMATION:

I. Abstract

The Bureau of Reclamation delivers Colorado River water to water users for diversion and beneficial consumptive use in the States of Arizona, California, and Nevada. The Consolidated Decree of the United States Supreme Court in the case of Arizona v. California, et al., entered March 27, 2006, (547 U.S. 150 (2006)) requires the Secretary of the Interior to prepare and maintain complete, detailed, and accurate records of diversions of water, return flow, and consumptive use and make these records available at least annually. This information is needed to ensure that a State or a water user within a State does not exceed its authorized use of Colorado River water. Water users are obligated by provisions in their water delivery contracts to provide Reclamation information on diversions and return flows. Reclamation determines the consumptive use by subtracting return flow from diversions or by other engineering means. Without the information collected, Reclamation could not comply with the order of the United States Supreme Court to prepare and maintain detailed and accurate records of diversions, return flows, and consumptive use. This information collection is required to obtain a benefit.

II. Changes to Forms

The Form LC-72, Record of Water Diverted From Lake Mead and/or the Colorado River for Use in the State of Nevada, is no longer needed because the water entitlement holder who used the form is no longer able to withdraw water from the Colorado River.

III. Data

OMB Control Number: 1006-0015.

Title: Diversions, Return Flows, and Consumptive Use of Colorado River Water in the Lower Colorado River Basin.

Description of respondents: The respondents will include the Lower Basin States (Arizona, California, and Nevada), local and tribal entities, water districts, and individuals that use Colorado River water.

Frequency: Monthly and annually.

Estimated total number of respondents: 53.

Estimated number of responses per respondent: 1 annually and/or 12 monthly

Estimated total number of annual responses: 196.

Estimated total annual burden hours: 33 hours.

Form Numbers: LC-72A and LC-72B.

Estimated burden for each form: 10 minutes.

IV. Request for Comments

A Federal Register notice with a 60-day public comment period soliciting comments on this collection of information was published on September 28, 2015 (80 FR 58294). No comments were received on this information collection.

We again invite comments concerning this information collection on:

(a) Whether the proposed collection of information is necessary for the proper performance of our functions, including whether the information will have practical use;

(b) The accuracy of our burden estimate for the proposed collection of information, including the validity of the methodology and assumptions used;

(c) Ways to enhance the quality, usefulness, and clarity of the information to be collected; and

(d) Ways to minimize the burden of the collection of information on respondents.

An agency may not conduct or sponsor, and a person is not required to respond to a collection of information unless it displays a currently valid OMB control number. Reclamation will display a valid OMB control number on the forms.

V. Public Disclosure

Before including your address, phone number, email address, or other personal identifying information in your comment, you should be aware that your entire comment—including your personal identifying information—may be made publicly available at any time. While you can ask us in your comment to withhold your personal identifying information from public review, we cannot guarantee that we will be able to do so.

Dated: November 9, 2015.
Terrance J. Fulp,
Regional Director, Lower Colorado Region.

[FR Doc. 2015-29871 Filed 11-27-15; 8:45 am]

BILLING CODE 4332-90-P-P